SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes extensions of and a revision to OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collection listed below is pending at SSA. SSA will submit it to OMB within 60 days from the date of this notice. To be sure we consider your comments, we must receive them no later than May 16, 2011. Individuals can obtain copies of the collection instrument by calling the SSA Reports Clearance Officer at 410-965-8783 or by writing to the above e-mail address.

Statement Regarding Contributions—20 CFR 404.360-404.366 and 404.736—0960-0020. SSA examines a child's current sources of support when determining the child's entitlement to Social Security benefits. To make this determination, SSA collects information on Form SSA-783. The respondents are individuals providing information about a child's sources of support.

Type of Request: Revision of an OMB-approved information collection.

Number of Respondents: 30,000.

Frequency of Response: 1.

Average Burden per Response: 17 minutes.

Estimated Annual Burden: 8,500 hours.

II. SSA submitted the information collections listed below to OMB for clearance. Your comments on the information collections would be most useful if OMB and SSA receive them within 30 days from the date of this publication. To be sure we consider your comments, we must receive them no later than April 15, 2011. You can obtain copies of the OMB clearance packages by calling the SSA Reports Clearance Officer at 410-965-8783 or by writing to the above e-mail address.

1. RSI/DI Quality Review Case Analysis—Sampled Number Holder; Auxiliaries/Survivors; Parent; Stewardship Annual Earnings Test—0960-0189. SSA collects information on Forms SSA-2930, SSA-2931, and SSA-2932 to establish a national payment accuracy rate for all cases in payment status, and to serve as a source of information regarding problem areas in the Retirement Survivors Insurance (RSI) and Disability Insurance (DI) programs. SSA also uses the information to measure the accuracy rate for newly adjudicated RSI/DI cases. SSA collects information on Form SSA-4659 to evaluate the effectiveness of the annual earnings test and uses the results in developing ongoing improvements in the process.

About 25 percent of respondents will have in-person reviews and receive one of the following appointment letters: SSA-L8550-U3 (Appointment Letter—Sample Individual), SSA-L8551-U3 (Appointment Letter—Sample Family), or the SSA-L8552-U3 (Appointment Letter—Rep Payee). Seventy-five percent of respondents will receive a notice for a telephone review using the SSA-L8553-U3 (Beneficiary Telephone Contact) or the SSA-L8554-U3 (Rep Payee Telephone Contact).

To help the beneficiary prepare for the interview, we include three forms with each notice:

(1) SSA-85 (Information Needed to Review Your Social Security Claim) lists the information the beneficiary will need to gather for the interview;

(2) SSA-2935 (Authorization to the Social Security Administration to Obtain Personal Information) verifies the beneficiary's correct payment amount, if necessary; and

(3) SSA-8552 (Interview Confirmation) confirms or reschedules the interview if necessary.

The respondents are a statistically valid sample of all RSI/DI beneficiaries in current pay status or their representative payees.

Type of Request: Revision of an OMB-approved information collection.

Form number | Number of responses | Frequency of response | Average burden per response (minutes) | Total annual burden (hours)
SSA-2930 | 1,500 | 1 | 30 | 750
SSA-2931 | 750 | 1 | 30 | 375
SSA-2932 | 100 | 1 | 20 | 33
SSA-4659 | 325 | 1 | 10 | 54
SSA-L8550-U3 | 385 | 1 | 5 | 32
SSA-L8551-U3 | 95 | 1 | 5 | 8
SSA-L8552-U3 | 35 | 1 | 5 | 3
SSA-L8553-U3 | 4,490 | 1 | 5 | 374
SSA-L8554-U3 | 670 | 1 | 5 | 56
SSA-8552 | 2,350 | 1 | 5 | 196
SSA-85 | 3,850 | 1 | 5 | 321
SSA-2935 | 2,350 | 1 | 5 | 196
SSA-820/821 | 400 | 1 | 15 | 100
SSA-8510 | 800 | 1 | 5 | 67
iClaim Stewardship Questions | 324 | 1 | 10 | 54
Totals | 18,424 |  |  | 2,619

2. Employer Reports of Special Wage Payments—20 CFR 404.428—404.429—0960-0565. SSA collects information on the SSA-131 to prevent earnings-related overpayments and to avoid erroneous withholding of benefits. SSA field offices and processing centers also use Form SSA-131 for awards and post-entitlement events requiring special wage payment verification from employers. The respondents are large and small businesses that make special wage payments to retirees.

Type of Request: Extension of an OMB-approved information collection.

Completed form | Number of respondents | Frequency of response | Average burden per response (minutes) | Total annual burden (hours)
Paper Version: SSA-131 (without #6) | 105,000 | 1 | 20 | 35,000
Paper Version: SSA-131 (#6 only) | 1,050 | 1 | 2 | 35
Electronic Version: BSO Special Wage Payments | 26 | 1 | 5 | 2
Totals | 106,076 |  |  | 35,037

Dated: March 11, 2011.
Faye Lipsky,
Reports Clearance Officer, Center for Reports Clearance, Social Security Administration.

[FR Doc. 2011-6082 Filed 3-15-11; 8:45 am]

BILLING CODE 4191-02-P